DEPARTMENT OF TRANSPORTATION

Federal Motor Carrier Safety Administration

[Docket No. FMCSA-2014-0420]

Hours of Service of Drivers: Specialized Carriers & Rigging Association (SC&RA); Application for Renewal of Exemption

AGENCY: Federal Motor Carrier Safety Administration (FMCSA), Department of Transportation (DOT).

ACTION: Notice of final disposition; renewal of exemption.

SUMMARY: FMCSA announces its final decision to renew the exemption from the minimum 30-minute rest break provision of the Agency's hours-of-service (HOS) regulations requested by the Specialized Carriers & Rigging Association (SC&RA) for certain commercial motor vehicle (CMV) drivers. The exemption covers drivers for all specialized carriers transporting loads that exceed normal weight and dimensional limits—oversize (OS) or overweight (OW) loads or both—and require a permit issued by a government authority. FMCSA has analyzed the exemption application and the public comments and has determined that the exemption, subject to the terms and conditions imposed, will likely achieve a level of safety that is equivalent to, or greater than, the level that would be achieved absent such exemption.

DATES: This renewed exemption is effective from June 17, 2025, and expires on June 17, 2030.

FOR FURTHER INFORMATION CONTACT: Pearlie Robinson, Driver and Carrier Operations Division; Office of Carrier, Driver and Vehicle Safety Standards; FMCSA; (202) 913-0704; pearlie.robinson@dot.gov. If you have questions on viewing or submitting material to the docket, contact Dockets Operations, (202) 366-9826.

SUPPLEMENTARY INFORMATION:

I. Public Participation

Viewing Comments and Documents

To view any documents mentioned as being available in the docket, go to https://www.regulations.gov/docket/FMCSA-2014-0420/document and choose the document to review. To view comments, click this notice, then click “Browse Comments.”

If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analyses. The Agency must also provide an opportunity for public comment on the request.

The Agency reviews the application, safety analyses and public comments and determines whether granting the exemption would likely achieve a level of safety equivalent to, or greater than, the level that would be achieved absent such exemption, pursuant to 49 U.S.C. 31315(b)(1). The Agency must publish the decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulatory Requirements

Under 49 CFR 395.3(a)(3)(ii), driving is not permitted if more than 8 hours of driving time have passed without at least one consecutive 30-minute interruption in driving status. A consecutive 30-minute interruption may be satisfied either by off-duty, sleeper berth, or on-duty not driving time, or by a combination of off-duty, sleeper berth, and on-duty not driving time.

Application for Renewal of Exemption

FMCSA announced the renewal application from SC&RA and provisionally renewed the exemption for 6 months in a Federal Register notice published on June 20, 2025 (90 FR 26405). The renewal application was described in detail in that notice and that summary will not be repeated here, as the facts have not changed.

IV. Public Comments

The Agency received 15 comments; 11 supported granting the exemption, 3 opposed the exemption, and one commenter neither supported nor opposed the exemption. Technical Trooper Nick Wright of the Kansas State Patrol, Rex Railsback and Lee and Lisa Schmitt, supported the exemption and recommended that FMCSA clarify the applicability of the exemption.

Specifically, Technical Trooper Nick Wright noted, “Since the inception of this initial exemption, there has been confusion among law enforcement based on the wording of the exemption.” Trooper Wright continued, “The summary makes a requirement for loads to be BOTH oversize AND overweight to be afforded this exemption. Many loads are over dimension (height, width, length) but are NOT overweight. As such, a strict reading of the exemption would preclude a driver from using this 30-minute interruption of driving exemption.”

Rex Railsback and Lee and Lisa Schmitt supported the same clarification. Lee and Lisa Schmitt added, “This exemption has been in effect for over TEN years with no adverse effects. It should be continued for another five years. Oversized carriers deal with curfews and daylight restrictions in many states. Finding a safe place to park for 30 minutes is usually difficult.”

Opposing comments stated that all drivers should be subject to the 30-minute rest requirement and that not taking the break is unsafe. Ross Tennison said, “I believe that there should be no more exemptions allowed until the entire HOS regulations are redone.” An anonymous individual stated, “I recommend no exemption to providing 30-minute rest break for carriers, drivers, and riggers. It is unsafe not to provide rest.” Another anonymous individual wrote, “If oversize truckers do not have to take a 30-minute break, then no driver should be required to take a 30-minute break.”

Jason Griffin recommended that FMCSA remove the 30-minute break requirement entirely “and add more drive time to hours of service.”

V. Agency Decision

FMCSA has evaluated SC&RA's application and the public comments. In response to the commenters recommending that FMCSA clarify the applicability of the exemption, FMCSA notes that this exemption applies to interstate carriers transporting loads that are oversize, overweight, or both and require a permit issued by a government authority. The Agency has given guidance on this issue on several occasions, and it was the intent of the original exemption to apply to loads that were oversize, overweight, or both. The Agency believes finding suitable parking for trucks with OS/OW loads is particularly difficult, as SC&RA pointed out, and the default option is likely to be parking on the shoulder of a highway, with the load sometimes extending into the lanes of traffic.

FMCSA therefore concludes that renewing the exemption granted on June 24, 2020, for another five years, under the terms and conditions listed below, will likely achieve a level of safety that is equivalent to, or greater than, the level of safety that would be achieved absent the exemption.

VI. Exemption Decision

FMCSA reaffirms its provisional decision to renew the exemption for a period of five years subject to the terms and conditions of this decision. The exemption from the requirements of 49 CFR 395.3(a)(3)(ii) is effective June 17, 2025, through June 17, 2030, 11:59 p.m. local time.

A. Applicability of Exemption

This exemption is applicable to drivers of specialized loads moving in interstate commerce that exceed normal weight and dimensional limits—oversize (OS) or overweight (OW) loads or both—and require a permit issued by a government authority. These drivers are exempt from the 30-minute rest break HOS regulations in § 395.3(a)(3)(ii). Drivers of loads not moving in interstate commerce are not eligible for this exemption.

B. Terms and Conditions

1. When operating under this exemption, drivers must have a copy of this exemption document in their possession. The exemption document must be presented to law enforcement officials upon request.

2. Any motor carrier utilizing this exemption must notify FMCSA within 5 business days of any positive drug or alcohol tests, or accident (as defined in 49 CFR 390.5) involving any of the motor carrier's CMVs operating under the terms of this exemption. The notification must include the following information:

1. Identifier of the Exemption: “SC&RA,”

2. Name of operating carrier and USDOT number;

3. Date of the crash;

4. City or town, and State, in which the accident occurred, or closest to the crash scene;

5. Driver's name and license number;

6. Co-driver's name (if any) and license number;

7. Vehicle number and State license number;

8. Number of individuals suffering physical injury;

9. Number of fatalities;

10. The police-reported cause of the crash, if provided by the enforcement agency;

11. Whether the driver was cited for violation of any traffic laws, motor carrier safety regulations; and

12. The total on-duty time accumulated during the 7 consecutive days prior to the date of the crash, and the total on-duty time and driving time in the work shift prior to the crash.

Reports filed under this provision shall be emailed to MCPSD@DOT.GOV.

C. Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

D. Termination

FMCSA does not believe the drivers or the motor carriers covered by this exemption will experience any deterioration of their safety records. However, the exemption will be rescinded if: (1) SC&RA or the driver operating under the exemption fail to comply with the terms and conditions of the exemption; (2) the exemption has resulted in a lower level of safety than was maintained before it was granted; or (3) continuation of the exemption would not be consistent with the goals and objects of 49 U.S.C. 31136(e) and 31315(b).

Derek Barrs,
Administrator.

[FR Doc. 2025-21936 Filed 12-3-25; 8:45 am]

BILLING CODE 4910-EX-P